DEPARTMENT OF COMMERCE

U.S. Census Bureau

Proposed Information Collection; Comment Request; Federal Statistical System Public Opinion Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before January 3, 2012.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Jennifer Hunter Childs, Jennifer.hunter.childs@census.gov (301) 763-4927, U.S. Census Bureau, Center for Survey Measurement, 4600 Silver Hill Road, Washington, DC 20233.

SUPPLEMENTARY INFORMATION:

I. Abstract

From December 2009 through April 2010, the U.S. Census Bureau contracted a private survey firm to conduct a nightly poll of public attitudes toward the 2010 Census, public awareness of Census promotional efforts, and intent to mail back their Census forms. The nationally representative sample of 200 respondents per night was rolled up into 7 day moving estimates that provided nearly immediate feedback on public reaction to national events that might influence perceptions of the 2010 Census, and on the success or failure of our communications campaign messaging. The Census Bureau used this feedback to make communication campaign decisions during the 2010 Census that contributed to achieving a mail-back participation rate of 74%, despite increased vacancy rates due to the economic downturn, increased public skepticism about the role of the Federal Government, and a general decline in survey response rates during the decade that crossed both public and private sector surveys.

Moving forward the Census Bureau is seeking ways to reverse the decline in response rates for its ongoing surveys to avoid both increasing operational costs and potential declines in data quality. The information collected will assist the Census Bureau in addressing attitudes, beliefs, and concerns the public may have regarding its trust (confidence) in federal statistics and in the collection of statistical information by the federal government from the public, as well attitudes toward and knowledge of the statistical uses of administrative records. The data will also allow us to understand how current events impact public perception towards federal statistics.

Ultimately, this public opinion data will enable the Census Bureau to better understand public perceptions, which will provide guidance for communicating with the public and for future planning of data collection that reflects a good understanding of public perceptions and concerns. Because all federal statistical agencies are also these facing issues of declining response rates and increasing costs in a time of constrained budgets, the Census Bureau will share the results of these surveys with other federal statistical agencies, including those that sponsor surveys conducted by the Census Bureau, to maximize the utility of this information collection and ultimately, the quality and efficiency of federal statistics.

II. Method of Collection

The Census Bureau plans to add up to 25 questions to a sample of cases in an ongoing survey, the Gallup Daily Tracking, which is a daily survey asking U.S. adults about various political, economic, and well-being topics. The survey includes sample coverage in Alaska and Hawaii, and relies on a three-call design to reach respondents not contacted on the initial attempt. The survey methods for the Gallup Daily Tracking rely on live interviews, dual-frame sampling (which includes listed landline interviewing as well as cell phone sampling to reach those in cell phone-only households, cell phone-mostly households, and unlisted landline-only households), and a random selection method for choosing respondents within the household. The survey conducts Spanish-language interviews for respondents who speak only Spanish. The Census Bureau will ask questions of 200 respondents who participate in the Gallup survey most evenings from January 3, 2012 through September 20, 2013.

III. Data

OMB Control Number: None.

Form Number: None.

Type of Review: Regular submission.

Affected Public: Individuals or households.

Estimated Number of Respondents: 70,000.

Estimated Time per Response: 10 minutes.

Estimated Total Annual Burden Hours: 11,667.

Estimated Total Annual Cost: $0.

Respondent's Obligation: Voluntary.

Legal Authority: Title 13 U.S.C. chapter 5.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 27, 2011.
Gwellnar Banks,
Management Analyst, Office of the Chief Information Officer.

[FR Doc. 2011-28212 Filed 10-31-11; 8:45 am]

BILLING CODE 3510-07-P